DEPARTMENT OF AGRICULTURE

Food and Nutrition Service

Agency Information Collection Activities: Proposed Collection; Comment Request—Study of the Food Distribution Program on Indian Reservations (FDPIR)

AGENCY: Food and Nutrition Service, USDA.

ACTION: Notice.

SUMMARY: In accordance with the Paperwork Reduction Act of 1995, this notice invites the general public and other public agencies to comment on proposed information collections. This is a new information collection in which Food and Nutrition Service seeks an updated description of Food Distribution Program on Indian Reservations (FDPIR) participants and programs, and a better understanding of why FDPIR participation has been declining. This study will provide national estimates of participating households as well as estimates for large subgroups, such as households with elderly participants. For a sample of Indian Tribal Organizations (ITOs) or State-administered FDPIR programs, participating households will be selected for data collection. Data collection will consist of case record reviews (abstracting standard eligibility information for all household members) and, for each selected household, interviews with the person who applied for FDPIR assistance (noted as the Head of Household on some forms) or his/her proxy. Site visits will be conducted to a subset of the ITOs or State-administered programs to obtain qualitative information on program operations and experiences of FDPIR participants and eligible nonparticipants. Site visit data collection will include interviews with Tribal leaders, FDPIR administrators and staff, and other service providers; visits to FDPIR enrollment sites, warehouses, and distribution sites; and discussion groups with FDPIR participants and eligible nonparticipants. Information obtained will provide updated information on FDPIR participants and program operations and will be used by FNS to inform decisions regarding program administration and to identify ways to make the program more beneficial to participants.

DATES: Written comments must be received on or before July 13, 2012.

ADDRESSES: Comments are invited on (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments, identified by the title of the information activity, may be sent to Steven Carlson, Office of Research and Analysis, Food and Nutrition Service/USDA, 3101 Park Center Drive, Room 1014, Alexandria, VA 22302. Comments may also be submitted via fax to the attention of Steven Carlson at 703-305-2576 or via email to Steve.Carlson@fns.usda.gov. Comments will also be accepted through the Federal eRulemaking Portal. Go to http://regulations.gov, and follow the online instructions for submitting comments electronically.

All written comments will be open for public inspection at the office of the Food and Nutrition Service during regular business hours (8:30 a.m. to 5 p.m., Monday through Friday) at 3101 Park Center Drive, Alexandria, VA 22302, Room 1014.

All responses to this notice will be summarized and included in the request for Office of Management and Budget approval. All comments will be a matter of public record.

FOR FURTHER INFORMATION CONTACT: Requests for additional information or copies of the information collection should be directed to Steven Carlson at (703) 305-2017.

SUPPLEMENTARY INFORMATION: Title: Study of the Food Distribution Program on Indian Reservations (FDPIR).

OMB Number: 0584-NEW.

Form Number: N/A.

Expiration Date: To be determined.

Type of Request: New collection of information.

Abstract: This study will provide current, nationally representative information on FDPIR participants and will provide updated information on local program operations across the nation. Information will be collected on perceptions about the program, potential access barriers, and participation in the Supplemental Nutrition Assistance Program (SNAP) and other food assistance programs in order to identify reasons for declining participation. The last nationally representative study was completed in 1990. Since then, significant changes have occurred in FDPIR, including changes to eligibility rules, foods offered, and food delivery options. This study is needed to help FNS make decisions regarding program administration and identify ways to make the program more beneficial to participants. The study's objectives include, but are not limited to:

• Obtaining an updated demographic profile of participants,

• Exploring reasons for the decline in FDPIR participation,

• Examining food package distribution approaches and other key aspects of FDPIR operations,

• Learning about FDPIR's contribution to participants' food supply, and

• Learning about participant satisfaction with the program.

The study will be conducted over a 3-year period. Data collection activities will include case record reviews, participant surveys, and site visits. A nationally-representative sample of 998 participating households will be included in the case record reviews and participant interviews. This sample will be selected at random from participating households in each of 26 FDPIR programs. Site visits to 17 programs will consist of staff interviews, discussion groups with participants and non-participants, and tours of program facilities.

Clearance is requested for the following new data collection activities: (1) Case record review/abstraction of case record data elements; (2) survey of FDPIR participants; (3) on-site interviews and observations of FDPIR program operations; and (4) discussion groups with participants and eligible nonparticipants.

In addition to primary data collection, the study will model effects of how changes in FDPIR policy, changes in household composition and characteristics, and economic factors may affect eligibility. The study will also use Census data files to consider FDPIR participation in the context of demographic and geographic shifts in the Native American population. Consultations with Tribal officials and extensive outreach to Tribes will occur in order to seek input from all FDPIR programs and to develop collaborative relationships with Tribal partners at each program in the study sample to increase survey participation.

Affected Public: State, Local, Tribal agencies; Individuals and Households.

Respondent Types: Respondents are FDPIR managers and administrative staff, Tribal leaders, and other service providers that work with or coordinate with FDPIR programs and FDPIR participants and FDPIR eligible non-participants.

Estimated Number of Respondents: Case record reviews require FDPIR staff to pull case records selected for the sample and subsequently return them to the appropriate file. One staff person at each site will be responsible for this task, for a total of 26 respondents. The total estimated number of sample members for the survey is 998. The total estimated number of respondents to the survey is 832 or 80% of the sample. The total estimated number of sample members for the on-site staff interviews is 170. A 100% response rate is anticipated for the staff interviews. The total estimated number of sample members for the focus groups is 300. The total estimated number of responses for the focus groups is 240 (80% response rate). The total number of respondents is estimated to be 1,444.

Number of Responses per Respondent: All data collection components are one-time only, and in most cases respondents will respond only once. Some FDPIR management or administrative staff may be providing case record data as well as participating in on-site staff interviews, and a small number of FDPIR participants may respond to the survey and participate in a discussion group.

Estimated Time per Response: The estimated average response time for obtaining the case record is 15 minutes. The estimated average response time is 30 minutes for the survey, 60 minutes for the on-site staff interviews, and 120 minutes to participate in the discussion group.

Estimated Total Annual Burden on Respondents: The estimated response time in hours is 249.5 for the case record review, 421.8 for the survey, 170.0 for the on-site staff interviews, and 489.6 for the discussion groups.

Affected public | Respondent type | Type of instrument |  | Estimated number of respondents | Frequency of response | Estimated total annual responses | Time per respondent (in hours) | Annual burden hours
State, Local and Tribal Agencies | FDPIR admin. staff | Case record reviews | Completed * | 26 | 38.38 | 998 | 0.25 | 249.5
| Tribal leaders, FDPIR managers and staff, other service providers | On-site staff interviews | Completed * | 170 (17 sites; 10 respon-dents per site) | 1 | 170 | 1 | 170
SA Sub-total |  |  |  | 196 |  | 1,168 |  | 419.5
Individuals/Households | FDPIR participants | HH survey | Completed | 832 | 1 | 832 | 0.5 | 416
|  |  | Attempted | 116 |  | 116 | 0.05 | 5.8
| FDPIR participants; eligible non-participants | Discussion groups | Completed | 240 (20 groups; 12 per group) | 1 | 240 | 2 | 480
|  |  | Attempted | 60 | 1 | 60 | 0.16 | 9.6
I/H Sub-total |  |  |  | 1,248.00 |  | 1,248.00 |  | 911.4
Total Estimated Reporting Burden |  |  |  | 1,444.00 |  | 2,416.00 |  | 1,330.90
* Note: FNS expects 100 percent participation from State Agencies.

Dated: May 7, 2012.
Robin Bailey, Jr.,
Acting Administrator, Food and Nutrition Service.

[FR Doc. 2012-11590 Filed 5-11-12; 8:45 am]

BILLING CODE 3410-30-P